DEPARTMENT OF EDUCATION

Office of Special Education and Rehabilitative Services; Overview Information; Technical Assistance and Dissemination to Improve Services and Results for Children with Disabilities—Building State Capacity to Improve the Achievement of Students With Disabilities Under the No Child Left Behind Act (NCLB) and the Individuals With Disabilities Education Act (IDEA); Notice Inviting Applications for new Awards for Fiscal Year (FY) 2007

Catalog of Federal Domestic Assistance (CFDA) Number: 84.326K.

Dates:

Applications Available: August 6, 2007.

Deadline for Transmittal of Applications: September 5, 2007.

Deadline for Intergovernmental Review: September 10, 2007.

Full Text of Announcement

I. Funding Opportunity Description

Purpose of Program: The purpose of this program is to promote academic achievement and improve results for children with disabilities by supporting technical assistance (TA), model demonstration projects, dissemination of useful information, and implementation activities that are supported by scientifically based research.

Priority: In accordance with 34 CFR 75.105(b)(2)(v), this priority is from allowable activities specified in sections 663 and 681(d) of the IDEA, 20 U.S.C. 1400 et seq.

Absolute Priority: For FY 2007, this is an absolute priority. Under 34 CFR 75.105(c)(3), we consider only applications that meet this priority.

This priority is: Building State Capacity to Improve the Achievement of Students With Disabilities under NCLB and IDEA

Background:

One of the primary goals of Title I of the Elementary and Secondary Education Act of 1965, as amended by the No Child Left Behind Act of 2001 (NCLB), is for all students to reach proficiency in reading and math by 2014. Available data indicate that there is still much work to be done to reach this goal, particularly for students with disabilities. In 2004, 37 percent of schools missed AYP for the students with disabilities subgroup (Department of Education, 2006). Furthermore, while the achievement gaps between various groups of students have decreased, the gap between students with disabilities and students without disabilities remains significant and a cause for concern (Center on Education Policy, 2007a). For example, O'Reilly and colleagues (2006) note that achievement data from standardized reading and mathematics tests collected in two nationally representative longitudinal studies (Special Education Elementary Longitudinal Study and the National Longitudinal Transition Study 2) indicate that almost two-thirds of students with disabilities scored at or below the 25th percentile.

In order to raise the achievement of students with disabilities, State educational agencies (SEAs) must have the capacity to provide support and TA to their districts and schools. While most SEAs agree that they should play a key role in supporting their districts' and schools' efforts to improve the achievement of students, many SEAs do not have the capacity to do so (Center on Education Policy, 2007b). The Center on Education Policy (2007a) found that providing TA to districts with schools in need of improvement continues to be very challenging for SEAs.

SEA officials report that one reason for their inability to provide support to their districts and schools is a lack of in-house expertise in providing TA. In fact, many of the SEAs surveyed by the Center on Education Policy (2007a) stated that they were “experimenting” with providing TA and did not know the best way to provide support to their districts and schools. This has resulted in delivery of TA that is fragmented and episodic, rather than ongoing and systematic (Department of Education, 2006).

For TA to be effective, SEAs must take the following steps: (1) Identify available TA that addresses the unique needs of their districts; (2) create an infrastructure that coordinates TA between regular and special education; (3) support districts in sustaining the implementation of evidence-based practices; and (4) support the scaling-up of evidence-based practices Statewide (see Learning Point Associates, 2007). Each of these steps is detailed below.

Identify available TA that addresses the unique needs of districts. States should consider using the significant TA resources that are currently available to support their districts and schools. For example, the Department's Office of Special Education Programs (OSEP) funds over 50 TA centers, including six Regional Resource Centers (RRCs), to support the effective implementation of the IDEA. The Department's Office of Elementary and Secondary Education (OESE) funds 21 comprehensive TA centers to support the implementation of NCLB. Regional educational laboratories, funded by the Department's Institute of Education Sciences (IES), provide information on scientifically based research and focus on topics such as distributed leadership, effective instructional strategies, and standards-based curricula. These providers of research and TA provide a rich source of information and support; yet SEAs may not effectively utilize these resources to meet their needs due to insufficient staff (Center on Education Policy, 2007a) or a lack of awareness about available resources.

Create an infrastructure that coordinates TA between regular and special education. The challenge of coordinating TA for special education and regular education makes it difficult for most SEAs to create an infrastructure that provides ongoing and systematic TA to improve the achievement of students with disabilities. To provide TA that focuses on improving the achievement of all students, including students with disabilities, SEAs have had to reorganize both their structure and their function (Center on Education Policy, 2007a). A review of Statewide systems of support indicates that SEAs typically provide TA in a piecemeal fashion and do not coordinate TA across regular and special education (Westat, 2006). In a study of the impact of TA services on improved education for students with disabilities, a major finding was that the “* * *deep attitudinal and philosophical barriers that exist between general and special education will continue to hinder technical assistance activities if they are not addressed by both policymakers and practitioners” (SRI, 2000).

Support effective, efficient, and sustained implementation of evidence-based practices. Capacity is needed at both State and district levels to sustain the implementation of evidence-based practices. Twenty-one States noted that an important objective of their Statewide system of support involves building district capacity to provide TA so that districts are better able to provide support to schools (Department of Education, 2006). Currently, research (Fixsen, Naoom, Blasé, Friedman, & Wallace, 2005) and exemplars of the implementation of evidence-based programs and practices funded by the Department of Education, such as positive behavior supports (PBS) (Barrett, 2006) and Reading First (U.S. Department of Education, 2006), suggest that if a district or school is to effectively implement a research-based program or practice with fidelity, a number of core implementation components must be in place (e.g., ongoing consultation and coaching, regular evaluation of staff performance, data-based decision making). Research and practice also suggest that TA provided to districts and schools should not solely focus on the research-based practice, but also should include assistance to help districts and schools develop and support core implementation components, noted above, to ensure that the research-based practices are effectively implemented and sustained.

Support the scaling up of evidence-based practices. Scaling up and sustaining the implementation of evidence-based practices requires a guide (i.e., a “blueprint”) designed to improve the efficiency and success of large-scale replications of a specific practice (Center on Positive Behavioral Interventions and Supports, 2004). The research and exemplars that inform best practices in implementation and sustainability of effective practices also inform the work of scaling up evidence-based practices and can be used to create a blueprint to assist SEAs in building capacity to provide TA to districts and schools.

Specifically, an integrated system of TA that supports the scaling up of evidence-based practices will require: State funding and public support from State leaders, systems that support the use of evidence-based practices, and appropriate resources for consultation and coaching for the implementation sites (Fixsen et al., 2005).

In summary, as part of their efforts to improve the achievement of students with disabilities, SEAs need to provide effective TA to districts. SEAs are transforming their approaches to supporting districts to implement Federal programs so that they may improve the quality of education provided to students (Center on Education Policy, 2007a). Indeed, in some States, SEAs have gone from being one of the least used sources of TA to improve education, to the most used source. SEAs, however, report that they often have not had the time, personnel, or guidance needed to transition from being an agency focused on compliance monitoring to an agency focused on TA (Center on Education Policy, 2007a). The purpose of this priority is to support a center to assist SEAs to build the necessary capacity to provide the TA needed by districts to support the achievement of students with disabilities in grades K-12 and, in doing so, improve the achievement of all students.

References

Barrett, S. (2006, August). Maryland's State Implementation Strategies, Successes, and Outcomes. Presented at the Office of Special Education Programs' Project Director's Meeting, Washington, DC.

Center on Education Policy. (2007a). Has student achievement increased since No Child Left Behind? Washington, DC.

Center on Education Policy. (2007b). State Achievement Profiles. Retrieved June 29, 2007, from: http://www.cep-dc.org/index.cfm?fuseaction=Page.viewPage&pageId=498&parentID=481.

Center on Positive Behavioral Interventions and Supports (2004). School-wide positive behavior support: Implementers' blueprint and self-assessment. Eugene, OR: OSEP PBIS Technical Assistance Center.

Fixsen, D.L.; Naoom, S.F.; Blasé, K.A.; Friedman, R.M., Wallace, F. (2005). Implementation research: A synthesis of the literature. Tampa, FL: University of South Florida.

Learning Point Associates. (2007). Implementing response to intervention (RTI): Considerations for practitioners. Washington, DC: Mike Galvin.

U.S. Department of Education, Institute of Education Sciences. (2006). National Assessment of Title I Interim Report: Executive Summary. Washington, DC.

O'Reilly, F., Fafard, M., Wagner, M., Brown, S.C., Fritts, J., Luallen, J., Carlson, E., Blackorby, J., Hebbeler, K., & Chambers, J. (2006). Improving results for students with disabilities: Key findings from the 1997 national assessment studies. Bethesda, MD: Abt Associates, Inc.

Padilla, C., Marks, S., Adelman, N., Dove, T., Haertal, G., & Hopfendgardner Warren, S. (2000). Understanding technical assistance: The impact of technical assistance services on improved education for students with disabilities. Menlo Park, CA: SRI International.

U.S. Department of Education. (2006). Statewide System of Support Profiles. Washington, DC.

U.S. Department of Education, Office of Planning, Evaluation and Policy Development, Policy and Program Studies Service. (2006). Washington, DC.

Priority

This priority will support a National Center to Build State Capacity to Provide TA to Districts (Center) to ensure that the implementation of evidence-based practices that improve the achievement of students with disabilities is sustained and brought to scale for grades K-12. The Center will work intensively with six States to help them: (a) Identify available TA that addresses the unique needs of the districts; (b) create an infrastructure to provide TA across regular and special education to improve the achievement of students with disabilities; (c) use what is known about effective implementation of evidence-based practices at both the SEA and district levels; and (d) use effective methods to scale-up the use of evidence-based practices. The Center will help six selected States carry out the challenging responsibility of providing districts with the necessary TA to improve the achievement of students with disabilities. The Center will disseminate, nationwide, the lessons learned from their work with the six States, including (a) How SEAs effectively took steps to build the capacity to provide coordinated TA to districts and (b) TA strategies appropriate for the unique needs of specific sites that can be used by States to improve their capacity to provide TA to improve the achievement of students with disabilities. Through the dissemination of the Center's work, the capacity of all States to support their districts and scale up the use of evidence-based practices will be enhanced.

To meet this priority, an applicant must describe in its application—

(a) The current research, theory, and best practices on providing TA at a systems level, including a review of the concepts of systems change, implementation, and scaling up of evidence-based practices Statewide.

(b) A conceptual framework for how States should provide TA to districts to support them in implementing and sustaining the use of evidence-based practices across regular and special education to improve the achievement of students with disabilities, and how SEAs should support scaling up the use of these practices.

(c) A plan for how the Center will work intensively with six selected SEAs to establish, enhance, and coordinate a State TA infrastructure across regular and special education to support districts in implementing evidence-based practices to improve the achievement of students with disabilities and scaling up the use of these practices Statewide for grades K-12.

(d) A logic model depicting, at a minimum, the goals, activities, outputs, and outcomes of the proposed Center. One acceptable approach to logic modeling is presented on the following Web site: http://www.uwex.edu/ces/lmcourse/. The model must include descriptions of proposed service delivery strategies, including the nature and conditions under which various strategies would be used; information on who would implement these strategies and how they would be implemented; and a comprehensive description of how the applicant would measure, through benchmarks and formative and summative evaluations, the effectiveness of these strategies.

(e) A plan for recruiting and selecting six States to work with the Center to improve their capacity to support districts in improving the achievement of students with disabilities. Factors for consideration in selecting these States could include the demographic and geographic characteristics of each State; the SEA's priorities and initiatives to support school improvement; the SEA's current capacity for providing TA; and the commitment of the State's regular and special education leadership to coordinate their TA to improve the achievement of students with disabilities. (Final selection of States will be made during the development of the cooperative agreement in the Department. The selection process will be clear to interested States.)

(f) A plan for how the Center will document the unique characteristics and needs of each State and the work that was necessary to effectively build State and district capacity to provide TA to improve the achievement of students with disabilities.

(g) A plan for establishing and facilitating a community of practice (CoP) of Federal and State TA providers and others interested in building State capacity, to share expertise and lessons learned on a continuous basis. The membership of the CoP must be determined with input from OSEP and OESE and include the following: Representatives from the six selected SEAs; experts in systems change and implementation of evidence-based practices; representatives from the Department's regional comprehensive centers, regional resource centers, regional educational laboratories, and special and regular education content centers; parents of students with disabilities; State and local policy makers; and distinguished teachers and principals. The Center must support the ongoing communication of the CoP through e-mail, teleconferences, Web-based discussions, and face-to-face meetings.

(h) A dissemination plan that includes methods for disseminating the lessons learned and context-specific TA strategies. This plan must describe the audiences that are most likely to benefit from these lessons learned and TA strategies and the methods the Center will use to reach them. An annual conference may be one of these dissemination methods.

(i) An evaluation plan that measures the impact of the Center's activities. Specifically, the evaluation must document—

(1) What participants in the six selected SEAs learned;

(2) How the Center's TA affected the SEAs' ability to support districts in implementing evidence-based practices to improve the achievement of students with disabilities;

(3) How the SEAs scaled-up the implementation of the evidence-based practices; and

(4) The degree to which the evidence-based practices contributed to improved outcomes for students with disabilities.

To meet the requirements of this priority, the Center, at a minimum, must—

(a) Establish and maintain a Web site that will include the Center's products and tools, links to CoP information, and other resources. All Web site information and documents must be displayed in a form that meets a government or industry-recognized standard for accessibility;

(b) Select an advisory group from the CoP that will meet at least annually with the Center to provide feedback on Center plans, activities, and accomplishments;

(c) Budget for the Center's project director to attend a three-day Project Directors' meeting in Washington, DC during each year of the project and two additional yearly meetings with OSEP; and

(d) Budget five percent of the award amount annually to support emerging needs as identified jointly through consultation with the OSEP project officer.

Fourth and Fifth Years of the Project:

In deciding whether to continue funding the Center for the fourth and fifth years, the Secretary will consider the requirements of 34 CFR 75.253(a), and in addition—

(a) The recommendation of a review team consisting of experts selected by the Secretary, which review will be conducted during the last half of the project's second year in Washington, DC. Projects must budget for travel expenses associated with this one-day intensive review;

(b) The timeliness and effectiveness with which all requirements of the negotiated cooperative agreement have been, or are being, met by the Center; and

(c) The degree to which the project promotes best practices in educational services to children.

Waiver of Proposed Rulemaking: Under the Administrative Procedure Act (APA) (5 U.S.C. 553), the Department generally offers interested parties the opportunity to comment on a proposed priority. However, section 681(d) of the IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

Type of Award: Cooperative agreement.

Estimated Available Funds: $1,000,000.

Maximum Award: We will reject any application that proposes a budget exceeding $1,000,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; local educational agencies (LEAs); public charter schools that are LEAs under State law; IHEs; other public agencies; private nonprofit organizations; outlying areas; freely associated States; Indian tribes or tribal organizations; and for-profit organizations.

2. Cost Sharing or Matching: This competition does not require cost sharing or matching.

3. Other: General Requirements—

(a) The project funded under this competition must make positive efforts to employ and advance in employment qualified individuals with disabilities (see section 606 of the IDEA).

(b) Applicants and the award recipient funded under this competition must involve individuals with disabilities or parents of individuals with disabilities ages birth through 26 in planning, implementing, and evaluating the project (see section 682(a)(1)(A) of the IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify this competition as follows: CFDA Number 84.326K.

Individuals with disabilities can obtain a copy of the application package in an alternative format (e.g., Braille, large print, audiotape, or computer diskette) by contacting the person or team listed under Alternate Format in section VIII in this notice.

2. Content and Form of Application Submission: Requirements concerning the content of an application, together with the forms you must submit, are in the package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the coversheet; Part II, the budget section, including the narrative budget justification; Part IV, the assurances and certifications; or the one-page abstract, the resumes, the bibliography, references, or the letters of support.

However, you must include all of the application narrative in Part III.

We will reject your application if—

• You apply these standards and exceed the page limit; or

• You apply other standards and exceed the equivalent of the page limit.

3. Submission Dates and Times:Applications Available: August 6, 2007. Deadline for Transmittal of Applications: September 5, 2007.

Applications for awards under this competition may be submitted electronically using the Grants.gov Apply site (Grants.gov), or in paper format by mail or hand delivery. For information (including dates and times) about how to submit your application electronically, or in paper format by mail or hand delivery, please refer to section IV.6.

Other Submission Requirements in this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

Deadline for Intergovernmental Review: September 10, 2007.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2007. The Building State Capacity to Improve the Achievement of Students With Disabilities under the No Child Left Behind Act (NCLB) and the Individuals with Disabilities Education Act (IDEA), CFDA Number 84.326K, is one of the competitions included in this project. We request your participation in Grants.gov.

If you choose to submit your application electronically, you must use the Grants.gov Apply site at http://www.Grants.gov. Through this site, you will be able to download a copy of the application package, complete it offline, and then upload and submit your application. You may not e-mail an electronic copy of an application to us.

You may access the electronic application for the Building State Capacity to Improve the Achievement of Students With Disabilities under the No Child Left Behind Act (NCLB) and the Individuals with Disabilities Education Act (IDEA) at http://www.Grants.gov You must search for the downloadable application package for this competition by the CFDA number. Do not include the CFDA number's alpha suffix in your search (e.g., search for 84.326, not 84.326K).

Please note the following:

• Your participation in Grants.gov is voluntary.

• When you enter the Grants.gov site, you will find information about submitting an application electronically through the site, as well as the hours of operation.

• Applications received by Grants.gov are date and time stamped. Your application must be fully uploaded and submitted, and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete the steps in the Grants.gov registration process (http://www.Grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.Grants.gov/section910/Grants.govRegistrationBrochure.pdf). You also must provide on your application the same D-U-N-S Number used with this registration. Please note that the registration process may take five or more business days to complete, and you must have completed all registration steps to allow you to successfully submit an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of System Technical Issues with the Grant.Gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under For Further Information Contact in Section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326K) 400 Maryland Avenue, SW., Washington, DC 20202-4260; or

By mail through a commercial carrier: U.S. Department of Education, Application Control Center, Stop 4260, Attention: (CFDA Number 84.326K) 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326K) 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the award.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has developed measures that will yield information on various aspects of the Technical Assistance and Dissemination to Improve Services and Results for Children with Disabilities program. These measures focus on: The extent to which projects provide high quality products and services, the relevance of project products and services to educational and early intervention policy and practice, and the use of products and services to improve educational and early intervention policy and practice.

The awardee will be required to provide information related to these measures.

The awardee also will be required to report information on the project's performance in annual reports to the Department (34 CFR 75.590).

VII. Agency Contact

For Further Information Contact: Debra Price-Ellingstad, U.S. Department of Education, 400 Maryland Avenue, SW., room 4097, Potomac Center Plaza, Washington, DC 20202-2550.

Telephone: (202) 245-7481.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 31, 2007.
John H. Hager,
Assistant Secretary for Special Education and Rehabilitative Services.

[FR Doc. E7-15228 Filed 8-3-07; 8:45 am]

BILLING CODE 4000-01-P